DEPARTMENT OF HOUSING AND URBAN DEVELOPMENT

[Docket No. FR 5481-N-22]

Notice of Proposed Information Collection for Public Comment; Continuum of Care Homeless Assistance Program Registration

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: February 27, 2012.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone (202) 402-3400, (this is not a toll-free number) or email Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, Department of Housing and Urban Development, 451 7th Street, SW., Room 7262, Washington, DC 20410; telephone (202) 708-1590 (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, i.e., permitting electronic submission of responses.

This Notice also lists the following information:

Title of Proposal: Continuum of Care Homeless Assistance Program Registration. Description of the need for the information proposed: This submission is to request a reinstatement with revisions of an expired information collection for the reporting burden associated with registration requirements that Continuum of Care Homeless Assistance (CoC) program lead agencies will be expected to complete. This submission is limited to the reporting burden under the CoC program, formerly including the Supportive Housing Program, the Shelter Plus Care program, and the Section 8 and Single Room Occupancy Program, and changed to match the new inclusive program name created through the HEARTH Act.

Agency Form Numbers:

Members of the affected public: CoC Lead Agency representatives.

Estimation of the total number of hours needed to prepare the information collection including number of respondents, frequency of response, and hours of response:

The CoC Registration will be completed by all 450 Continuums of Care and will require approximately one hour to complete. The registration will occur once per year prior to the release of the annual CoC Notice of Funding Availability. The total number of hours needed for all reporting per year is 450 hours.

Status of proposed information collection: Reinstatement, with change, of previously approved collection for which approval has expired.

Authority: Section 3506 of the Paperwork Reduction act of 1995, 44 U.S.C. Chapter 35, as amended.

Dated: December 19, 2011.
Clifford Taffet,
General Deputy Assistant Secretary for Community Planning and Development.

[FR Doc. 2011-33320 Filed 12-27-11; 8:45 am]

BILLING CODE 4210-67-P